DEPARTMENT OF TRANSPORTATION

Surface Transportation Board

[STB Finance Docket No. 33916]

Penn Eastern Rail Lines, Inc.—Acquisition Exemption—Lines of the Commonwealth of Pennsylvania, Acting Through Its Department of Transportation

Penn Eastern Rail Lines, Inc. (PERL), a Class III rail carrier, has filed a verified notice of exemption under 49 CFR 1150.41 to acquire ownership rights in two rail lines from the Commonwealth of Pennsylvania, acting through its Department of Transportation. The first rail line, known as the Perkiomen Branch, extends between approximately milepost 22.338, at Pennsburg, and milepost 38.23, at Emmaus Junction, Emmaus, in Berks, Lehigh and Montgomery Counties, PA. The second rail line, known as the Mount Hope Industrial Track, extends between approximately milepost 0.36 and milepost 1.00, at Manheim, Lancaster County, PA. The total distance of the rail lines to be acquired is approximately 16.53 route miles. PERL will continue as the operator of the two rail lines.¹

¹ See Penn Eastern Rail Lines, Inc.—Acquisition and Operation Exemption—Lines of Lancaster Northern Railway, Inc., Chester Valley Railway, Inc., East Penn Railways, Inc., and Bristol Industrial Terminal Railway, Inc., STB Finance Docket No. 33512 (STB served December 1, 1997).

The parties report that they intend to consummate the transaction on or soon after the effective date of the exemption. The earliest the transaction can be consummated is August 25, 2000, 7 days after the exemption was filed.

If the notice contains false or misleading information, the exemption is void ab initio. Petitions to revoke the exemption under 49 U.S.C. 10502(d) may be filed at any time. The filing of a petition to revoke does not automatically stay the transaction.

An original and 10 copies of all pleadings, referring to STB Finance Docket No. 33916, must be filed with the Surface Transportation Board, Office of the Secretary, Case Control Unit, 1925 K Street, NW., Washington, DC 20423-0001. In addition, a copy of each pleading must be served on Kevin M. Sheys, Esq., Oppenheimer Wolff & Donnelly LLP, 1350 Eye Street, NW., Suite 200, Washington, DC 20005-3324.

Board decisions and notices are available on our website at “WWW.STB.DOT.GOV.”

Decided: August 23, 2000.
By the Board, David M. Konschnik, Director, Office of Proceedings.
Vernon A. Williams,
Secretary.

[FR Doc. 00-22033 Filed 8-30-00; 8:45 am]

BILLING CODE 4915-00-P